DEPARTMENT OF STATE

[Public Notice 5945]

Bureau of Educational and Cultural Affairs (ECA) Request for Grant Proposals: EducationUSA Advising Services in Eurasia and Central Asia

Announcement Type: New Cooperative Agreement.

Funding Opportunity Number: ECA/A/S/A-08-06.

Catalog of Federal Domestic Assistance Number: 00.000.

Key Dates: January 1, 2008, to December 31, 2008.

Application Deadline: Tuesday, November 13, 2007.

Executive Summary: The Office of Global Educational Programs, Educational Information and Resources Branch, of the Bureau of Educational and Cultural Affairs (ECA) announces an open competition for EducationUSA Advising Services in Eurasia (Armenia, Azerbaijan, Belarus, Georgia, Moldova, Russia, and Ukraine) and Central Asia (Kazakhstan, Kyrgyzstan, Tajikistan, and Turkmenistan). The amount anticipated to support these services in Eurasia in FY 2008 is $530,000; the amount anticipated for Central Asia is $120,000.

Public and private non-profit organizations meeting the provisions described in Internal Revenue Code section 26 U.S.C. 501(c)(3) may submit proposals to operate EducationUSA advising centers in Bureau-specified locations. These advising centers would be a part of the network of approximately 470 Department of State-affiliated advising centers worldwide. Advising centers provide comprehensive and unbiased information to students, scholars, and other individuals about study opportunities in the U.S.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: EducationUSA advising centers provide accurate and impartial information and guidance about academic study in the U.S., including the following topics: All accredited U.S. colleges, universities, and other higher education institutions; accreditation of institutions of higher learning; the application process for U.S. institutions of higher learning; majors and fields of study; standardized tests required by institutions of higher learning; life on a U.S. campus; financial aid; and visa regulations. In addition, advising centers should offer pre-departure orientation programs for students preparing to start study programs in the U.S. Centers should also provide information on funded study opportunities sponsored by the U.S. Government and other institutions and organizations. Centers should maintain regular communication with the relevant Regional Educational Advising Coordinator (REAC) and local Public Affairs Section (PAS), in addition to the relevant Bureau Program Officer. Advisers will be eligible to apply for Bureau-sponsored professional development opportunities and training events. The Bureau will provide reference materials and equipment, and support adviser training opportunities, based on need as assessed by the relevant REAC.

Advising centers should operate according to the following basic principles:

(1) Services provided at no charge should include, at minimum, access to educational reference materials as appropriate and to an introductory group advising session;

(2) Centers must be open to all persons, regardless of academic affiliation, and without bias based on age, gender, socio-economic level, race, religion, or physical disability.

Educational advisers working in the centers should possess the following qualifications:

(1) A university degree in a relevant field;

(2) Advanced written and spoken English language skills;

(3) A strong knowledge of the U.S. higher education system.

Advising centers should conduct the following advising activities and services:

(1) Opportunity Scholarships: This program provides assistance to highly qualified, economically disadvantaged students with the initial costs of testing, application, travel, and other up front costs, to participate in degree programs in the United States. Proposals should explain how advising centers in countries that currently participate in this program—Belarus, Russia, and Ukraine in Eurasia; and Kazakhstan, Kyrgyzstan, Tajikistan, and Turkmenistan in Central Asia—will provide administrative support to the Bureau for implementation of the program. Advising centers should provide the following services:

(a) Provide nomination forms to students and appropriate assistance about how to complete the forms, if needed;

(b) Where appropriate, and in consultation with REAC and PAS, conduct outreach and advertisement about the program;

(c) Submit completed nomination forms to relevant REAC and PAS;

(d) As needed, assist PAS with notification of students about acceptance into the program;

(e) Help participating students to complete the next steps of seeking financial aid, registration for taking tests and other preparatory work;

(f) Complete and submit monthly reports summarizing the results of program implementation.

Note: Funding for individual scholarships is provided from a different Bureau source and not from funding for this award. The funding for individual scholarships is disbursed by Fulbright offices in Ukraine and Russia and by U.S. embassies in other countries. As a part of the total dollar request, applicant organizations may request up to $40,000 for the administration of this program in Eurasia and up to $10,000 for the administration of opportunity scholarships in Central Asia. The number of students to be supported in each country will be based on the review of applications received and on the effectiveness of program implementation at specific advising centers. However, for planning purposes, applicant organizations may assume that the number of students to be identified for support during the grant period will be approximately 90 in Eurasia (60 in Russia, 25 in Ukraine, and 5 in Belarus) and 18 in Central Asia (9 in Kyrgyzstan, 3 in Kazakhstan, 3 in Tajikistan, and 3 in Turkmenistan).

(2) Outreach: Proposals should include outreach activities and a detailed description of those activities. Examples of outreach may include organization and hosting of education fairs, presentations at local high schools and colleges, or projects that include cooperative work with American Corners, which are resource centers about the United States in locations throughout both regions. The Bureau's emphasis on diversity should be considered when making plans for outreach activities, with a focus on non-elite and economically disadvantaged groups and with reference, if appropriate, to the opportunity scholarships.

(3) Statistics Maintenance: Proposals should explain how applicant organizations will ensure that center staff will record advising center user statistics and enter them on a monthly basis into the EducationUSA database on the EducationUSA Web site. Advisers should also be responsive to requests for information from the relevant REAC, PAS, and the Bureau.

(4) Coordination and Communication: Proposals should explain how centers will coordinate with the relevant REAC, PAS, and one another when planning workshops, advising fairs, and other public events to ensure that visiting representatives of U.S. institutions can include participation in several events in their travel schedule.

II. Award Information

The Bureau plans to award one grant to support advising centers in the following countries of Eurasia: Armenia, Azerbaijan, Belarus, Georgia, Russia, and Ukraine. The Bureau also plans to one award to support advising centers in the following countries of Central Asia: Kazakhstan, Kyrgyzstan, Tajikistan, and Turkmenistan. Within these countries, proposals should indicate the locations where the applicant organization has the institutional capacity to host and support advising centers. For each proposed location, proposals should include a rationale that reflects the potential demand for advising services in these locations as well as the Bureau's priority of including non-elite, under-served populations among the international students who study in the U.S. If an applicant requests funding to support centers in both regions, it must do so in two separate proposals. Proposals to support a larger number of advising centers are especially encouraged.

Type of Awards: cooperative agreement (ECA's level of involvement in this program is listed under number I above.)

Fiscal Year Funds: FY 2008, pending the availability of funds.

Approximate Total Funding: $650,000 (NTE $530,000 for Eurasia and $120,000 for Central Asia).

Approximate Number of Awards: Two.

Anticipated Award Date: Pending availability of funds, January 1, 2008.

Anticipated Project Completion Date: December 31, 2008.

Additional Information: Pending successful implementation of this program and the availability of funds in subsequent fiscal years, it is the Bureau's intent to renew this grant for two additional fiscal years, before opening it to competition again.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide as much cost sharing as possible in support of its programs.

When cost sharing is offered, it is understood and agreed that the applicant must provide the amount of cost sharing as stipulated in its proposal and later included in an approved grant agreement. Cost sharing may be in the form of allowable direct or indirect costs. For accountability, grant recipients must maintain written records to support all costs which are claimed as a cost shared contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, the Bureau's contribution will be reduced in like proportion.

III.3 Other Eligibility Requirements

(a.) Grants awarded to eligible organizations with less than four years of experience in conducting international exchange programs will be limited to $60,000.

IV. Application and Submission Information

Note: Please read the complete Federal Register announcement before sending inquiries or submitting proposals. Once the RFGP deadline has passed, Bureau staff may not discuss this competition with applicants until the proposal review process has been completed.

IV.1. Contact Information To Request an Application Package

Educational Information and Resources Branch, U.S. Department of State, 301 4th Street, SW., Room 349, Washington, DC 20547, telephone: 202-453-8883, fax: 202-453-8890, e-mail: scotthc@state.gov.

Please refer to the Funding Opportunity Number ECA/A/S/A-08-06 when making the request.

The Solicitation Package contains the Proposal Submission Instruction (PSI) document that consists of required application forms, and standard guidelines for proposal preparation.

Please specify Bureau Program Officer Henry Scott and refer to the Funding Opportunity Number, ECA/A/S/A-08-06, on all inquiries and correspondence.

IV.2. To Download a Solicitation Package Via Internet

The entire Solicitation Package may be downloaded from the Bureau's Web site at: http://exchanges.state.gov/education/rfgps/menu.htm. Please read all information before downloading.

IV.3. Content and Form of Submission

Applicants must follow all instructions in the Solicitation Package. The application should be submitted per the instructions under IV.3f. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative, and budget. Please refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa

For applicants' information only, the Bureau of Educational and Cultural Affairs is placing a higher emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, recordkeeping, reporting and other requirements. The Grantee will be responsible for issuing DS-2019 forms to participants in this program.

A copy of the complete regulations governing the administration of Exchange Visitor (J) programs is available at http://exchanges.state.gov or from:

United States Department of State, Office of Exchange Coordination and Designation, 301 4th Street, SW., Room 734, Washington, DC 20547, Telephone: (202) 203-5029, FAX: (202) 453-8640.

Please refer to Solicitation Package for further information.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it: (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

Describe your plans for: Sustainability, overall program management, staffing, coordination with ECA and PAS.

IV.3e.1. Applicants must submit a comprehensive budget for the entire program. There must be a summary budget as well as breakdowns reflecting both administrative and program budgets. Applicants should also provide complete sub-budgets for each advising center, including costs associated with implementation of Opportunity Initiative, where applicable.

IV.3e.2. Allowable costs include the following:

(1) Advising center staff salaries and benefits;

(2) Office supplies and expenses, including rent, communications, postage and shipping;

(3) Outreach, publicity, and special projects costs;

(4) Indirect costs.

Note: In the Budget Narrative, applicants should describe mechanisms for ensuring accountability and transparency in financial transactions.

Please refer to the Solicitation Package for complete budget guidelines and formatting instructions.

IV.3f. Application Deadline and Methods of Submission

Application Deadline Date: Tuesday, November 13, 2007.

Funding Opportunity Number: ECA/A/S/A-08-06.

Methods of Submission: Applications may be submitted in one of two ways:

(1) In hard-copy, via a nationally recognized overnight delivery service (i.e., DHL, Federal Express, UPS, or U.S. Postal Service Express Overnight Mail), or

(2) Electronically through http://www.grants.gov.

IV.3f.1. Submitting Printed Applications (Hard-Copy)

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission, please make sure to include one extra copy of the completed SF-424 form and place it in an envelope addressed to “ECA/EX/PM”.

The original and seven copies of the application should be sent to:

U.S. Department of State, Bureau of Educational and Cultural Affairs, Ref.: ECA/A/S/A-08-06, Program Management, ECA/EX/PM, Room 534, 301 4th Street, SW., Washington, DC 20547.

Along with the Project Title, all applicants must enter the Funding Opportunity Number ECA/A/S/A-08-06 on the SF-424 contained in the mandatory Proposal Submission Instructions (PSI) of the solicitation document.

IV.3f.2. Submitting Electronic Applications

Applicants have the option of submitting proposals electronically through Grants.gov (http://www.grants.gov). Complete solicitation packages are available at Grants.gov in the “Find” portion of the system. Please follow the instructions available in the ‘Get Started' portion of the site (http://www.grants.gov/GetStarted).

Applicants have until midnight (12 a.m.) of the closing date to ensure that their entire applications have been uploaded to the grants.gov site. Applications uploaded to the site after midnight of the application deadline date will be automatically rejected by the grants.gov system, and will be technically ineligible.

Applicants will receive a confirmation e-mail from grants.gov upon the successful submission of an application. ECA will not notify you upon receipt of electronic applications.

IV.3g. Intergovernmental Review of Applications

Executive Order 12372 does not apply to this program.

V. Application Review Information

V.1. Review Process

The Bureau will review all proposals for technical eligibility. Proposals will be deemed ineligible if they do not fully adhere to the guidelines stated herein and in the Solicitation Package. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards and cooperative agreements resides with the Bureau's Grants Officer.

Review Criteria

Technically eligible applications will be competitively reviewed according to the criteria stated below. These criteria are not rank ordered and all carry equal weight in the proposal evaluation. Please see POGI for a description of each criterion.

1. Program planning/Ability to achieve program objectives.

2. Institution's capacity/record.

3. Cost effectiveness/cost sharing.

4. Multiplier effect/impact.

5. Support of diversity.

6. Project evaluation.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

(1) http://www.whitehouse.gov/omb/grants.

(2) http://exchanges.state.gov/education/grantsdiv/terms.htm#_article I.

VI.3. Reporting Requirements

You must provide ECA with a hard copy original plus two copies of the following reports:

A final program and financial report no more than 90 days after the expiration of the award;

Grantees will be required to provide reports analyzing their evaluation findings to the Bureau in their regular program reports. (Please refer to IV. Application and Submission Instructions (IV.3d.3.) above for Program Monitoring and Evaluation information.

All data collected, including survey responses and contact information, must be maintained for a minimum of three years and provided to the Bureau upon request.

All reports must be sent to the ECA Grants Officer and ECA Program Officer listed in the final assistance award document.

Program Data Requirements:

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: Henry Scott, ECA/A/S/A, Room 349, U.S. Department of State, 301 4th Street, SW., Washington, DC 20547, telephone: 202-453-8883, fax: 202-453-8890, e-mail: scotthc@state.gov. Include a reference to Funding Opportunity Number ECA/A/S/A-08-06.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: September 19, 2007.
C. Miller Crouch,
Acting Assistant Secretary, Bureau of Educational and Cultural Affairs, Department of State.

[FR Doc. E7-19104 Filed 9-26-07; 8:45 am]

BILLING CODE 4710-05-P